DEPARTMENT OF JUSTICE

Notice of Lodging of Consent Decree Pursuant to the Comprehensive Environmental Response, Compensation, and Liability Act

In accordance with Departmental policy, 28 CFR 50.7, notice is hereby given that a Consent Decree in United States v. Bernard Liedman, Civil Action. No. JFM-00-111, was lodged on April 9, 2001, with the United States District Court for the District of Maryland. The Consent Decree resolves the claims of the United States under Section 107 of the Comprehensive Environmental Response, Compensation, and Liability Act, as amended (“CERCLA”), for reimbursement of $684,377.71 of past response costs incurred in responding to contamination at the Mid-Atlantic Wood Preservers Superfund Site located in Harmans, Anne Arundel County, Maryland. The Consent Decree obligates Bernard Liedman to pay $575,000 in reimbursement of the past response costs incurred by EPA. The Consent Decree is consistent with the Superfund statute and is in the public interest.

The Department of Justice will receive, for a period of thirty (30) days from the date of this publication, comments relating to the proposed Consent Decree. Comments should be addressed to the Assistant Attorney General for the Environment and Natural Resources Division, Department of Justice, Washington, DC, 20530, and should refer to United States v. Bernard Liedman, DOJ Ref. # 90-11-2-305/1.

The Consent Decree may be examined at the Region III Office of the Environmental Protection Agency, 1650 Arch Street, Philadelphia, Pennsylvania, 19103; and by mail from the Consent Decree Library, Department of Justice, P.O. Box 7611, Washington, DC 20044-7611. In requesting a copy from the Consent Decree Library, please refer to the referenced case and enclose a check in the amount of $38.25 (25 cents per page reproduction cost), payable to the U.S. Treasury.

Robert Brook,
Assistant Section Chief, Environmental Enforcement Section, Environment and Natural Resources Division.

[FR Doc. 01-9907 Filed 4-20-01; 8:45 am]

BILLING CODE 4410-15-M